DEPARTMENT OF TRANSPORTATION

Maritime Administration

[Docket Number USCG-2013-0363]

Deepwater Port License Application: Liberty Natural Gas LLC, Port Ambrose Deepwater Port; Final Application Public Hearing and Final Environmental Impact Statement

AGENCY: Maritime Administration, Department of Transportation.

ACTION: Notice of availability; notice of public hearing; request for comments.

SUMMARY: The Maritime Administration (MARAD) and the U.S. Coast Guard (USCG) announce: (1) The schedule and locations of public hearings; and (2) the availability of the Final Environmental Impact Statement (FEIS) for the Liberty Natural Gas LLC, Port Ambrose Liquefied Natural Gas Deepwater Port license application for the importation of natural gas.

The Port Ambrose application describes an offshore natural gas deepwater port facility that would be located 16.1 nautical miles southeast of Jones Beach, New York, 24.9 nautical miles east of Long Branch, New Jersey, and 27.1 nautical miles from the entrance to New York Harbor in a water depth of approximately 103 feet. The FEIS complies with the Deepwater Port Act of 1974, as amended (33 U.S.C. 1501 et seq.) (DWPA) and the National Environmental Policy Act (NEPA) (42 U.S.C. 4332(2)(C)), as implemented by the Council on Environmental Quality regulations (40 CFR 1500 to 1508). MARAD and the USCG request public comments on the FEIS and the application.

Publication of this notice begins a 45-day comment period, requests public participation in the process, provides information on how to participate in the process and announces informational open houses and public hearings in New York and New Jersey. Pursuant to the criteria provided in the DWPA, both New Jersey and New York have been designated as Adjacent Coastal States (ACS) for this application.

Please note that this application is only for the construction and operation of a deepwater port that could only be used as a natural gas import facility. The considerable technical, operational and environmental differences between import and export operations for natural gas deepwater ports is such that any licensed deepwater port facility that proposed to convert from import to export operations would be required to submit a new license application (including application fee) and conform to all licensing requirements and regulations in effect at such time of application. In addition to payment of the application fee, licensing requirements include, but are not limited to, completion of an extensive environmental impact assessment which would include public participation and a financial responsibility review which would include public participation.

DATES: There will be a total of four public hearings held in connection with the application and the FEIS; two public hearings will be held in Long Beach, New York on November 2, 2015 and November 3, 2015, from 6:00 to 10:00 p.m.; and two public hearings will be held in Eatontown, New Jersey on November 4, 2015 and November 5, 2015, from 6:00 to 10:00 p.m. Each public hearing will be preceded by an open house from 4:30 to 5:30 p.m. The public hearing may end later than the stated time, depending on the number of persons wishing to speak. Additionally, materials submitted in response to the request for comments must reach the Docket Management Facility as detailed below, by close of business Monday, November, 30, 2015, or 45 days after publication of this notice in the Federal Register whichever is later.

Federal and State agencies must also submit comments, recommended conditions for licensing, or letters of no objection by Monday, November 30, 2015, or 45 days after publication of this notice in the Federal Register whichever is later. Also, within 45 days following the final hearing, on or prior to December 21, 2015, the Governor of New York and the Governor of New Jersey (ACS Governors) may approve, disapprove, or notify MARAD of inconsistencies with State programs relating to environmental protection, land and water use, and coastal zone management for which MARAD may ensure consistency by placing conditions on the license.

MARAD must issue a Record of Decision (ROD) to approve, approve with conditions, or deny the deepwater port license application, within 90 days following the final license hearing, on or prior to February 3, 2016.

ADDRESSES: The open houses and public hearings in Long Beach, New York will be held at the Long Beach Hotel, 405 East Broadway, Long Beach, New York, 11561; phone 516-544-4444. Free street parking is available, and the parking lot at the Long Island Railroad (LIRR) Long Beach Train Station, near Park Place and Park Avenue is available from 5:00 p.m. to 5:00 a.m. The City of Long Beach operates local bus public transportation services between the LIRR Long Beach Train Station and the Long Beach Hotel. The open houses and public hearings in Eatontown, New Jersey will be held at the Sheraton Eatontown Hotel, 6 Industrial Way East, Eatontown, NJ 07724; phone 732-542-6500. Free parking is available on site at the hotel.

The FEIS, license application, comments, supporting information and other associated documentation are available for viewing at the Federal Docket Management System (FDMS) Web site: http://www.regulations.gov under docket number USCG-2013-0363. The FEIS is also available at the following public libraries: Oceanside Library, 30 Davison Avenue, Oceanside, NY 11572; phone 516-766-2360; Long Beach Public Library, 111 W Park Ave, Long Beach, NY 11561; phone 516-432-7200; Long Branch Free Public Library, 328 Broadway, Long Branch, NJ 07740; phone 732-222-3900; and Queens Library, 889-11 Merrick Blvd., Jamaica, NY 11432; phone 718-990-0700.

Docket submissions for USCG-2013-0363 should be addressed to: Department of Transportation, Docket Management Facility, West Building, Ground Floor, Room W12-140, 1200 New Jersey Avenue SE., Washington, DC 20590-0001.

The Federal Docket Management Facility accepts hand-delivered submissions and makes docket contents available for public inspection and copying at this address between 9:00 a.m. and 5:00 p.m., Monday through Friday, except Federal holidays. The Facility telephone number is 202-366-9329, fax number is 202-493-2251, and the Web site for electronic submissions to the FDMS or for electronic access to docket contents is http://www.regulations.gov.

FOR FURTHER INFORMATION CONTACT: Mr. Roddy Bachman, U.S. Coast Guard, telephone 202-372-1451, email: Roddy.C.Bachman@uscg.mil, or Ms. Yvette M. Fields, Maritime Administration, telephone 202-366-0926, email: Yvette.Fields@dot.gov. For questions regarding the Docket, please call Docket Operations, telephone 202-366-9826.

SUPPLEMENTARY INFORMATION:

Public Hearing and Open House

You are invited to learn about the proposed Port Ambrose Deepwater Port at one of the above noticed informational open houses, and to comment on the application and the environmental impact analysis contained in the FEIS at any of the above public hearings or directly to the docket. The open houses, public hearings and docket comments will be used by MARAD to inform the Maritime Administrator's decision making process, including the ROD and any conditions that may be placed on a subsequent license to own, construct and operate a deepwater port.

Speakers may register upon arrival (registration by proxy is not authorized) and will be recognized in the following order: Elected officials, public agencies, individuals or groups in the order in which they registered. In order to accommodate all speakers, speaker time may be limited, hearing hours may be extended, or both. Speakers' transcribed remarks will be included in the public docket. Written material may also be submitted for inclusion in the public docket. Written material must include the author's name. We request attendees respect the hearing procedures in order to ensure a constructive hearing. Please do not bring signs or banners inside the hearing venue. The presiding officer will use his/her discretion to conduct the hearing in an orderly manner. In the interest of allowing all interested parties to speak, and because all comments that are received, both verbal and written, are included in the record and will be considered by MARAD before making a licensing decision, it is not necessary to sign up more than once to provide duplicate comments at subsequent meetings.

Public hearing locations are wheelchair-accessible. However, attendees who require special assistance such as sign language interpretation or other reasonable accommodation, please notify the USCG at least five business days in advance. See FOR FURTHER INFORMATION CONTACT. Include contact information as well as information about specific needs.

Request for Comments

We request public comments on the FEIS and the application. The public hearing is not the only opportunity you have to comment. In addition to, or in place of, attending a hearing, you may submit comments to the Federal Docket Management Facility during the public comment period. See DATES. We will consider all comments and material received during the comment period.

Submissions should include:

• Docket number USCG-2013-0363.

• Your name and address.

Submit comments or material using only one of the following methods:

• Electronic submission (preferred to expedite processing) to the FDMS, http://www.regulations.gov.

• Fax, mail, or hand delivery to the Federal Docket Management Facility. See ADDRESSES. Faxed or hand delivered submissions must be unbound, no larger than 8½ by 11 inches, and suitable for copying and electronic scanning. If you mail your submission and want to confirm it reaches the Facility, include a stamped, self-addressed postcard or envelope.

Regardless of the method used for submitting comments or material, all submissions will be posted, without change, to the FDMS Web site (http://www.regulations.gov) and will include any personal information you provide. Therefore, submitting this information makes it a public record. See Privacy Act. You may view docket submissions at the Department of Transportation Docket Management Facility or electronically on the FDMS Web site. See ADDRESSES.

Background

Information about deepwater ports, DWPA, other applicable statutes, regulations governing deepwater port licensing, including the application review process and the receipt of the current application for the proposed Port Ambrose liquefied natural gas (LNG) deepwater port was published in the Federal Register on June 14, 2013, 78 FR 36014. The “Summary of the Application” from that publication is reprinted below for your convenience. The Notice of Intent to Prepare an environmental impact statement (EIS) for the proposed action was published in the Federal Register on June 24, 2013, (78 FR 37878), and the Notice of Availability of the Draft EIS was published in the Federal Register on December 16, 2014, (79 FR 74808). The FEIS, application materials and associated comments and supporting information are available on the docket.

Proposed Action and Alternatives

USCG and MARAD are co-lead Federal agencies for the preparation of the FEIS; MARAD is the Federal licensing agency (action agency). The proposed action requiring environmental review is the Federal licensing of the proposed deepwater port described in the “Summary of the Application” below. The alternatives to licensing the proposed port are: (1) Licensing with conditions (including conditions designed to mitigate environmental impact) and (2) denying the application, which, for purposes of environmental review, is the “no-action” alternative. These alternatives are more fully discussed in the FEIS. You can address any questions about the proposed action or the FEIS to USCG or MARAD project managers identified in FOR FURTHER INFORMATION CONTACT.

Summary of the Application

Liberty Natural Gas, LLC is proposing to construct, own and operate a LNG deepwater port import facility, known as Port Ambrose, located in the New York Bight. The Port Ambrose facility will be located at a different proposed location and include a different design than the previous deepwater port license application submitted by Liberty Natural Gas, LLC in 2010. Port Ambrose would consist of two Submerged Turret Loading Buoys (STL Buoys) in Federal waters 16.1 nautical miles southeast of Jones Beach, New York, 24.9 nautical miles east of Long Branch, New Jersey and 27.1 nautical miles from the entrance to New York Harbor, in a water depth of approximately 103 feet.

LNG would be delivered from purpose-built LNG regasification vessels (LNGRVs), vaporized on site and delivered through the STL Buoys, flexible riser/umbilical, subsea manifold and lateral pipelines to a buried 18.8 nautical mile subsea mainline connecting to the existing Transco Lower New York Bay Lateral in New York State waters 2.2 nautical miles southwest of Long Beach, New York and 13.1 nautical miles east of Sandy Hook, New Jersey. The STL Buoys would be lowered to rest on a landing pad when not in use and would also include a suction anchor mooring array.

STL Buoy 1 is located at Latitude: 40°19′24.61″ N and Longitude: 73°25′45.33″ W. STL Buoy 2 is located at Latitude: 40°20′09.26″ N and Longitude 73°23′51.92″ W. The Port components would fall in the following U.S. Outer Continental Shelf (OCS) lease blocks:

Buoy 1 (6708, 6709, 6758); Buoy 2 (6709); Lateral 1 (6708); Lateral 2 (6708, 6709); “Y” Assembly (6708); Mainline Pipeline (6708, 6658, 6657, 6607, 6606, 6556, 6555, 6554, 6504 and 6503).

The 145,000 cubic meter LNGRVs would have onboard closed-loop vaporization and metering and odorant capability. Each vessel would have three vaporization units capable of maximum send-out of 750 million standard cubic feet per day (MMscfd) (maximum pipeline system flow rate is 660 MMscfd with two buoys) with annual average expected to be 400 MMscfd. The LNGRVs have been designed to use a ballast water cooling system that will entirely re-circulate onboard the vessel during Port operations, eliminating vessel discharges associated with regasification while at the Port. Deliveries through Port Ambrose would be focused during peak demand winter and summer months, and it is anticipated that approximately 45 deliveries will occur each year.

As proposed, the LNGRVs would access the port inbound from the Hudson Canyon to Ambrose Traffic Lane and depart via the Ambrose to Nantucket Traffic Lane. MARAD and USCG are aware that Port Ambrose falls within the proposed area of interest for the Long Island—New York City Offshore Wind Collaborative wind energy project. This project has been acknowledged and considered in the cumulative impacts analysis section of the FEIS based on currently available information. If approved, the majority of the port and pipeline construction and installation would occur in 2017, with commissioning estimated to be in December 2018.

In addition, pipelines and structures such as the STL Buoy moorings will require permits under Section 404 of the Clean Water Act and Section 10 of the Rivers and Harbors Act, which are administered by the U.S. Army Corps of Engineers (USACE). Port Ambrose will also require permits from the Environmental Protection Agency (EPA) pursuant to the provisions of the Clean Air Act, as amended, and the Clean Water Act, as amended.

The new pipeline is included in the NEPA review as part of the deepwater port application process. The EPA and the USACE, among others, are cooperating agencies (40 CFR 1501.6) and have assisted in development of the FEIS. See 40 CFR 1501.6. To the extent required, each agency will incorporate the FEIS into their permitting processes. Comments sent to the EPA or USACE will be incorporated in the USCG Port Ambrose docket and considered under this notice to ensure consistency with the NEPA Process.

There have been some proposed project changes since the original Port Ambrose application was submitted, which were set forth in the Notice of Availability of the Draft EIS (DEIS). In summary, these include: (1) The original Application proposed a plowed mainline pipeline burial depth of three (3) feet to top of pipe. Pursuant to USACE requirements, the mainline pipeline is now proposed to be plow-buried to seven (7) feet (4 feet to top of pipe), and for approximately three (3) miles within the Ambrose Anchorage Area, buried to 10 feet (7 feet to top of pipe). The pipeline within the Ambrose Anchorage Area will then be backfilled and covered with three (3) feet of 8-inch rock to a point. Once the rock has been placed, gravelly sand will be deposited on top of the rock covered pipeline to restore the seabed to near its original seafloor bottom elevation; (2) the originally proposed impact driven mooring pile anchors are now proposed to be suction anchors; (3) the original port construction and commissioning was proposed to occur in 2015. This timetable has been amended to occur in 2018 (assuming license is approved and issued). Should a license be issued, the deepwater port would be designed, fabricated, constructed, commissioned, maintained, inspected and operated in accordance with applicable codes and standards.

Privacy Act

The electronic form of all comments received into the FDMS can be searched by the name of the individual submitting the comment (or signing the comment, if submitted on behalf of an association, business, labor union, etc.). The DOT Privacy Act Statement can be viewed in the Federal Register published on April 11, 2000 (65 FR 19477).

Authority: The Deepwater Port Act of 1974, as amended, 33 U.S.C. 1501 et seq.; 49 CFR 1.93.

* * * * *

Dated: October 5, 2015.
By Order of the Maritime Administrator.
T. Mitchell Hudson, Jr.,
Secretary, Maritime Administration.

[FR Doc. 2015-25727 Filed 10-15-15; 8:45 am]

BILLING CODE 4910-81-P